DEPARTMENT OF HEALTH AND HUMAN SERVICES

Administration for Children and Families

Submission for Office of Management and Budget Review; Guidance for Tribal Temporary Assistance for Needy Families Program (Office of Management and Budget #0970-0157)

AGENCY: Office of Family Assistance; Administration for Children and Families; Department of Health and Human Services.

ACTION: Request for public comment.

SUMMARY: The Administration for Children and Families (ACF) is requesting a 3-year extension of the form ACF-123: Guidance for the Tribal Temporary Assistance for Needy Families (TANF) Program (Office of Management and Budget (OMB) #0970-0157, expiration date: August 31, 2023). There are minor clarifying changes requested to the guidance.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: 42 U.S.C. 612 (Section 412 of the Social Security Act) requires each Indian tribe that elects to administer and operate a TANF program to submit a TANF Tribal Plan. This request includes the renewal of the guidance for completing the initial Tribal TANF Plan. The TANF Tribal Plan is a mandatory statement submitted to the Secretary of the United States Department of Health and Human Services (HHS) by the Indian tribe, which consists of an outline of how the Indian tribe's TANF program will be administered and operated. It is used by the Secretary to determine whether the plan is approvable and to determine that the Indian tribe is eligible to receive a TANF assistance grant. It is also made available to the public. The renewal includes minor edits, such as updating hyperlinks and correcting typographical errors. Additionally, the list of requirements has been reformatted so that it is easier to read and use.

Respondents: Indian tribes applying to operate a TANF program and to renew their Tribal Family Assistance Plan.

Annual Burden Estimates
Instrument | Total number of respondents | Total number of responses per respondent | Average burden hours per response | Total burden hours | Annual burden hours
Guidance for the TANF Program | 75 | 1 | 68 | 5,100 | 1,700

Estimated Total Annual Burden Hours: 1,700.

Authority: 42 U.S.C. 612.

Mary B. Jones,
ACF/OPRE Certifying Officer.

[FR Doc. 2023-15001 Filed 7-13-23; 8:45 am]

BILLING CODE 4184-36-P